FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before April 29, 2013. If you anticipate that you will be submitting comments, but find it difficult to do so within the period of time allowed by this notice, you should advise the contact listed below as soon as possible.

ADDRESSES: Direct all PRA comments to the Federal Communications Commission via email to PRA@fcc.gov and Cathy.Williams@fcc.gov.

FOR FURTHER INFORMATION CONTACT: For additional information about the information collection, contact Cathy Williams at (202) 418-2918.

SUPPLEMENTARY INFORMATION: OMB Approval Number: 3060-XXXX.

Title: Earth Stations Aboard Aircraft (ESAA).

Form Number: Not applicable.

Type of Review: New information collection.

Respondents: Businesses or other for-profit entities.

Number of Respondents and Responses: 6 respondents and 54 responses.

Estimated Time per Response: 1-4 hours.

Frequency of Response: On occasion reporting requirement; Third-party disclosure requirement.

Total Annual Burden: 114 hours.

Total Annual Costs: $16,200.

Nature and Extent of Confidentiality: There is no need for confidentiality with this collection of information.

Obligation to Respond: Required to obtain or retain benefits. The Commission has statutory authority for the information collection requirements under Sections 4(i), 4(j), 7(a), 302(a), 303(c), 303(e), 303(f), 303(g), 303(j), 303(r), and 303(y) of the Communications Act of 1934, as amended, 47 U.S.C. 154(i), 154(j), 157(a), 302(a), 303(c), 303(e), 303(f), 303(g), 303(j), 303(r), and 303(y).

Privacy Assessment: No impact(s).

Needs and Uses: The Federal Communications Commission (“Commission”) is seeking approval from the Office of Management and Budget (OMB) in order to establish a new information collection titled, “Earth Stations Aboard Aircraft.”

On December 28, 2012, the Commission released a Notice of Proposed Rulemaking and Report and Order titled, “Revisions to Parts 2 and 25 of the Commission's Rules to Govern the Use of Earth Stations Aboard Aircraft Communicating with Fixed-Satellite Service Geostationary-Orbit Space Stations Operating in the 10.95-11.2 GHz, 11.45-11.7 GHz, 11.7-12.2 GHz and 14.0-14.5 GHz Frequency Bands and Service Rules and Procedures to Govern the Use of Aeronautical Mobile Satellite Service Earth Stations in Frequency Bands Allocated to the Fixed Satellite Service,” IB Docket Nos. 12-376 and 05-20, FCC 12-161 (“ESAA Report and Order”).

The Notice of Proposed Rulemaking portion of the rulemaking does not contain any new or modified information collection requirements. The new information collection requirements contained in the Report and Order are as follows:

47 CFR 25.132(b)(3)—Applicants seeking authority to use an antenna that does not meet the standards set forth in §§ 25.209(a) and (b), pursuant to the procedure set forth in § 25.220, § 25.221, § 25.222, § 25.223, § 25.226 or § 25.227 of this part, are required to submit a copy of the manufacturer's range test plots of the antenna gain patterns specified in paragraph (b)(1) of this section.

47 CFR 25.227(b)—Applications for ESAA operation in the 14.0-14.5 GHz (Earth-to-space) band to GSO satellites in the Fixed-Satellite Service shall include, in addition to the particulars of operation identified on Form 312, and associated Schedule B, the applicable technical demonstrations in paragraphs (b)(1), (b)(2) or (b)(3) and the documentation identified in paragraphs (b)(4) through (b)(8) of this section.

(1) An ESAA applicant proposing to implement a transmitter under paragraph (a)(1) of this section shall demonstrate that the transmitter meets the off-axis EIRP spectral-density limits contained in paragraph (a)(1)(i) of this section. To provide this demonstration, the application shall include the tables described in paragraph (b)(1)(i) of this section or the certification described in paragraph (b)(1)(ii) of this section. The ESAA applicant also shall provide the value N described in paragraph (a)(1)(i)(A) of this section. An ESAA applicant proposing to implement a transmitter under paragraph (a)(1)(ii)(A) of this section shall provide the certifications identified in paragraph (b)(1)(iii) of this section. An ESAA applicant proposing to implement a transmitter under paragraph (a)(1)(ii)(B) of this section shall provide the demonstrations identified in paragraph (b)(1)(iv) of this section.

(i) Any ESAA applicant filing an application pursuant to paragraph (a)(1) of this section shall file three tables and/or graphs depicting off-axis EIRP density masks defined by 25.227(a) and measured off-axis EIRP density levels of the proposed earth station antenna in the direction of the plane of the GSO; the co-polarized EIRP density in the elevation plane, that is, the plane perpendicular to the plane of the GSO; and cross-polarized EIRP density. Each table shall provide the EIRP density level at increments of 0.1° for angles between 0° and 10° off-axis, and at increments of 5° for angles between 10° and 180° off-axis.

(A) For purposes of the off-axis EIRP density table in the plane of the GSO, the off-axis angle is the angle in degrees from the line connecting the focal point of the antenna to the orbital location of the target satellite, and the plane of the GSO is determined by the focal point of the antenna and the line tangent to the arc of the GSO at the orbital position of the target satellite.

(B) For purposes of the off-axis co-polarized EIRP density table in the elevation plane, the off-axis angle is the angle in degrees from the line connecting the focal point of the antenna to the orbital location of the target satellite, and the elevation plane is defined as the plane perpendicular to the plane of the GSO defined in paragraph (b)(1)(i)(A) of this section.

(C) For purposes of the cross-polarized EIRP density table, the off-axis angle is the angle in degrees from the line connecting the focal point of the antenna to the orbital location of the target satellite and the plane of the GSO as defined in paragraph (b)(1)(i)(A) of this section will be used.

(ii) An ESAA applicant shall include a certification, in Schedule B, that the ESAA antenna conforms to the gain pattern criteria of § 25.209(a) and (b), that, combined with the maximum input power density calculated from the EIRP density less the antenna gain, which is entered in Schedule B, demonstrates that the off-axis EIRP spectral density envelope set forth in paragraphs (a)(1)(i)(A) through (a)(1)(i)(C) of this section will be met under the assumption that the antenna is pointed at the target satellite.

(iii) An ESAA applicant proposing to implement a transmitter under paragraphs (a)(1)(ii)(A) of this section shall:

(A) Demonstrate that the total tracking error budget of their antenna is within 0.2° or less between the orbital location of the target satellite and the axis of the main lobe of the ESAA antenna. As part of the engineering analysis, the ESAA applicant must show that the antenna pointing error is within three sigma (б) from the mean value; and

(B) Demonstrate that the antenna tracking system is capable of ceasing emissions within 100 milliseconds if the angle between the orbital location of the target satellite and the axis of the main lobe of the ESAA antenna exceeds 0.5°.

(iv) An ESAA applicant proposing to implement a transmitter under paragraph (a)(1)(ii)(B) of this section shall:

(A) Declare, in its application, a maximum antenna pointing error and demonstrate that the maximum antenna pointing error can be achieved without exceeding the off-axis EIRP spectral-density limits in paragraph (a)(1)(i) of this section; and

(B) Demonstrate that the ESAA transmitter can detect if the transmitter exceeds the declared maximum antenna pointing error and can cease transmission within 100 milliseconds if the angle between the orbital location of the target satellite and the axis of the main lobe of the ESAA antenna exceeds the declared maximum antenna pointing error, and will not resume transmissions until the angle between the orbital location of the target satellite and the axis of the main lobe of the ESAA antenna is less than or equal to the declared maximum antenna pointing error.

(2) An ESAA applicant proposing to implement a transmitter under paragraph (a)(2) of this section and using off-axis EIRP spectral-densities in excess of the levels in paragraph (a)(1)(i) of this section shall provide the following certifications and demonstration as exhibits to its earth station application:

(i) A statement from the target satellite operator certifying that the proposed operation of the ESAA has the potential to receive harmful interference from adjacent satellite networks that may be unacceptable.

(ii) A statement from the target satellite operator certifying that the power density levels that the ESAA applicant provided to the target satellite operator are consistent with the existing coordination agreements between its satellite(s) and the adjacent satellite systems within 6° of orbital separation from its satellite(s).

(iii) A statement from the target satellite operator certifying that it will include the power-density levels of the ESAA applicant in all future coordination agreements.

(iv) A demonstration from the ESAA operator that the ESAA system will comply with all coordination agreements reached by the satellite operator and is capable of detecting and automatically ceasing emissions within 100 milliseconds when the transmitter exceeds the off-axis EIRP spectral-densities supplied to the target satellite operator.

(3) An ESAA applicant proposing to implement an ESAA system under paragraph (a)(3) of this section and using variable power-density control of individual simultaneously transmitting co-frequency ESAA earth stations in the same satellite receiving beam shall provide the following certifications and demonstration as exhibits to its earth station application:

(i) The applicant shall make a detailed showing of the measures it intends to employ to maintain the effective aggregate EIRP density from all simultaneously transmitting co-frequency terminals operating with the same satellite transponder at least 1 dB below the off-axis EIRP density limits defined in paragraphs (a)(1)(i)(A)-(C) of this section. In this context the term “effective” means that the resultant co-polarized and cross-polarized EIRP density experienced by any GSO or non-GSO satellite shall not exceed that produced by a single ESAA transmitter operating at 1 dB below the limits defined in paragraphs (a)(1)(i)(A)-(C) of this section. The applicant also must demonstrate that an individual transmitter and the entire ESAA system is capable of automatically ceasing emissions within 100 milliseconds if the aggregate off-axis EIRP-densities exceed the off-axis EIRP density limits minus 1 dB, as set forth in paragraph (a)(3)(i) of this section. The International Bureau will place this showing on public notice along with the application.

(ii) An applicant proposing to implement an ESAA system under paragraph (a)(3)(ii) of this section that uses off-axis EIRP spectral-densities in excess of the levels in paragraph (a)(3)(i) of this section shall provide the following certifications, demonstration and list of satellites as exhibits to its earth station application:

(A) A detailed showing of the measures the applicant intends to employ to maintain the effective aggregate EIRP density from all simultaneously transmitting co-frequency terminals operating with the same satellite transponder at the EIRP density limits supplied to the target satellite operator. The International Bureau will place this showing on Public Notice along with the application.

(B) A statement from the target satellite operator certifying that the proposed operation of the ESAA has the potential to create harmful interference to satellite networks adjacent to the target satellite(s) that may be unacceptable.

(C) A statement from the target satellite operator certifying that the aggregate power-density levels that the ESAA applicant provided to the target satellite operator are consistent with the existing coordination agreements between its satellite(s) and the adjacent satellite systems within 6° of orbital separation from its satellite(s).

(D) A statement from the target satellite operator certifying that it will include the aggregate power-density levels of the ESAA applicant in all future coordination agreements.

(E) A demonstration from the ESAA operator that the ESAA system is capable of detecting and automatically ceasing emissions within 100 milliseconds when an individual transmitter exceeds the off-axis EIRP spectral-densities supplied to the target satellite operator and that the overall system is capable of shutting off an individual transmitter or the entire system if the aggregate off-axis EIRP spectral-densities exceed those supplied to the target satellite operator.

(F) An identification of the specific satellite or satellites with which the ESAA system will operate.

(4) There shall be an exhibit included with the application describing the geographic area(s) in which the ESAA will operate.

(5) Any ESAA applicant filing for an ESAA terminal or system and planning to use a contention protocol shall include in its application a certification that will comply with the requirements of paragraph (a)(4) of this section.

(6) The point of contact referred to in paragraph (a)(5) of this section shall be included in the application.

(7) Any ESAA applicant filing for an ESAA terminal or system shall include in its application a certification that will comply with the requirements of paragraph (a)(6), (a)(9), (a)(10), (a)(11) of this section.

(8) All ESAA applicants shall submit a radio frequency hazard analysis determining via calculation, simulation, or field measurement whether ESAA terminals, or classes of terminals, will produce power densities that will exceed the Commission's radio frequency exposure criteria. ESAA applicants with ESAA terminals that will exceed the guidelines in Section 1.1310 for radio frequency radiation exposure shall provide, with their environmental assessment, a plan for mitigation of radiation exposure to the extent required to meet those guidelines. All ESAA licensees shall ensure installation of ESAA terminals on aircraft by qualified installers who have an understanding of the antenna's radiation environment and the measures best suited to maximize protection of the general public and persons operating the vehicle and equipment. An ESAA terminal exhibiting radiation exposure levels exceeding 1.0 mW/cm² in accessible areas, such as at the exterior surface of the radome, shall have a label attached to the surface of the terminal warning about the radiation hazard and shall include thereon a diagram showing the regions around the terminal where the radiation levels could exceed 1.0 mW/cm².

47 CFR 25.227(c)(1)—Operations of ESAAs in the 14.0-14.2 GHz (Earth-to-space) frequency band in the radio line-of-sight of the NASA TDRSS facilities on Guam (latitude 13°36′55″ N, longitude 144°51′22″ E) or White Sands, New Mexico (latitude 32°20′59″ N, longitude 106°36′31″ W and latitude 32°32′40″ N, longitude 106°36′48″ W) are subject to coordination with the National Aeronautics and Space Administration (NASA) through the National Telecommunications and Information Administration (NTIA) Interdepartment Radio Advisory Committee (IRAC). Licensees shall notify the International Bureau once they have completed coordination. Upon receipt of such notification from a licensee, the International Bureau will issue a public notice stating that the licensee may commence operations within the coordination zone in 30 days if no party has opposed the operations.

47 CFR 25.227(c)(2)—When NTIA seeks to provide similar protection to future TDRSS sites that have been coordinated through the IRAC Frequency Assignment Subcommittee process, NTIA will notify the Commission's International Bureau that the site is nearing operational status. Upon public notice from the International Bureau, all Ku-band ESAA licensees shall cease operations in the 14.0-14.2 GHz band within radio line-of-sight of the new TDRSS site until the licensees complete coordination with NTIA/IRAC for the new TDRSS facility. Licensees shall notify the International Bureau once they have completed coordination for the new TDRSS site. Upon receipt of such notification from a licensee, the International Bureau will issue a public notice stating that the licensee may commence operations within the coordination zone in 30 days if no party has opposed the operations. The ESAA licensee then will be permitted to commence operations in the 14.0-14.2 GHz band within radio line-of-sight of the new TDRSS site, subject to any operational constraints developed in the coordination process.

47 CFR 25.227(d)(1)—Operations of ESAA in the 14.47-14.5 GHz (Earth-to-space) frequency band in the radio line-of-sight of radio astronomy service (RAS) observatories observing in the 14.47-14.5 GHz band are subject to coordination with the National Science Foundation (NSF). The appropriate NSF contact point to initiate coordination is Electromagnetic Spectrum Manager, NSF, 4201 Wilson Blvd., Suite 1045, Arlington, VA 22203, fax 703-292-9034, email esm@nsf.gov. Licensees shall notify the International Bureau once they have completed coordination. Upon receipt of the coordination agreement from a licensee, the International Bureau will issue a public notice stating that the licensee may commence operations within the coordination zone in 30 days if no party has opposed the operations.

47 CFR 25.227(d)(2)—A list of applicable RAS sites and their locations can be found in 25.226(d)(2) Table 1.

47 CFR 25.227(d)(3)—When NTIA seeks to provide similar protection to future RAS sites that have been coordinated through the IRAC Frequency Assignment Subcommittee process, NTIA will notify the Commission's International Bureau that the site is nearing operational status. Upon public notice from the International Bureau, all Ku-band ESAA licensees shall cease operations in the 14.47-14.5 GHz band within the relevant geographic zone of the new RAS site until the licensees complete coordination for the new RAS facility. Licensees shall notify the International Bureau once they have completed coordination for the new RAS site and shall submit the coordination agreement to the Commission. Upon receipt of such notification from a licensee, the International Bureau will issue a public notice stating that the licensee may commence operations within the coordination zone in 30 days if no party has opposed the operations. The ESAA licensee then will be permitted to commence operations in the 14.47-14.5 GHz band within the relevant coordination distance around the new RAS site, subject to any operational constraints developed in the coordination process.

If various data in this collection were not filed in conjunction with our rules, then applicants and licensees would not obtain the authorization necessary to provide telecommunications services; the Commission would not be able to carry out its mandate as required by statute; and applicants and licensees would not be able to effectively provide services to the public.

Federal Communications Commission.
Marlene H. Dortch,
Secretary.

[FR Doc. 2013-04706 Filed 2-27-13; 8:45 am]

BILLING CODE 6712-01-P